DEPARTMENT OF THE INTERIOR

Bureau of Land Management

[NM-010-1430-EU/1430-HM; NM 101522]

Notice of Availability of a Final Environmental Impact Statement (FEIS) for the Land Exchange With the Pueblo of San Felipe; Albuquerque Field Office, NM

AGENCY: Bureau of Land Management, Interior.

ACTION: Notice.

SUMMARY: The Bureau of Land Management (BLM), Albuquerque Field Office has completed the FEIS for the land exchange with the Pueblo of San Felipe. This FEIS documents the BLM's analysis of three alternative courses of action for exchanging public lands administered by the BLM in Sandoval and Santa Fe Counties, New Mexico for private lands in Taos County, New Mexico. The lands in Taos County lie along the Rio Grande National Wild and Scenic River and within the Orilla Verde Recreation Area, identified as two of the BLM's high-priority acquisition areas.

The goals of this exchange are to enable the BLM to more effectively meet multiple use management objectives; to consolidate BLM-managed lands for more effective and efficient resource protection, enhancement and use; to give San Felipe Pueblo direct control over those lands having traditional, historical and cultural values and uses; and to greatly enhance the privacy often required for the pueblo's uses. When the lands are held in trust by the Bureau of Indian Affairs, these uses would be supported through the tribal government's direct supervision.

The BLM will retain restrictive covenants on the lands being received by the pueblo. The purposes of the restrictive covenants are to conserve important habitat for wildlife and open space, to conserve the diverse vegetative communities and the wildlife inhabiting these communities, and to preserve the lands in their present condition, without interfering with any uses of the property by the San Felipe Pueblo that are consistent with protecting these conservation values.

This FEIS includes changes to the Draft Environmental Impact Statement based on public comments, staff review, and the availability of updated information. Alternative A, the Proposed Action, is the BLM's preferred alternative.

DATES: The document is available for review for 30 days from the date of publication of the Notice of Availability by Environmental Protection Agency (EPA) in the Federal Register. To be considered, all comments must be postmarked within this 30-day timeframe.

After reviewing the comments, the BLM will publish a Record of Decision. Interested parties will have 45 days to protest the decision (under 43 CFR 1610.5-2). After this period, the decision can be implemented.

ADDRESSES: Comments should be addressed to: Edwin Singleton, Field Manager, BLM Albuquerque Field Office, 435 Montaño Road NE, Albuquerque, NM 87107-4935. Copies are available for review at this address. The document is also available on the Internet at www.nm.blm.gov.

FOR FURTHER INFORMATION, CONTACT: Debby Lucero, Albuquerque Field Office, 435 Montaño Road NE, Albuquerque, New Mexico 87107-4935; phone (505) 761-8787.

SUPPLEMENTARY INFORMATION: Description of Proposed Action—Alternative A, the Proposed Action, involves an equal-value exchange of approximately 9,460 acres of BLM lands that have high traditional and cultural pueblo values for about 268.7 acres of privately owned, high-value recreation lands. The private lands are located along the Rio Grande National Wild and Scenic River and within the Orilla Verde Recreation Area. They would be incorporated into the Orilla Verde Recreation Area and managed under the principles of multiple use, consistent with the Taos Resource Management Plan (1988), as amended.

Other Alternatives Analyzed—Under Alternative B, an additional 1,447 acres of federal land would be exchanged for an equal value of private lands identified in the BLM's high-priority acquisition areas.

Under Alternative C, the No Action Alternative, the proposed land exchange would not occur. The BLM would not benefit from consolidating the public lands along the Rio Grande National Wild and Scenic River and within the Orilla Verde Recreation Area. The federal land would continue to be managed under the principles of multiple use and sustained yield.

Dated: September 14, 2001.
Steven W. Anderson,
Assistant Field Manager.

[FR Doc. 01-27484 Filed 10-31-01; 8:45 am]

BILLING CODE 4310-AG-P